DEPARTMENT OF COMMERCE

International Trade Administration

A-427-801, A-428-801, A-475-801, A-588-804, A-412-801

Ball Bearings and Parts Thereof from France, Germany, Italy, Japan, and the United Kingdom: Partial Rescission of Antidumping Duty Administrative Reviews

AGENCY: Import Administration, International Trade Administration, Department of Commerce.

SUMMARY: On July 1, 2008, in response to requests from interested parties, the Department of Commerce published a notice of initiation of the administrative reviews of the antidumping duty orders on ball bearings and parts thereof from France, Germany, Italy, Japan, and the United Kingdom. The period of review is May 1, 2007, through April 30, 2008. The Department of Commerce is rescinding these reviews in part.

EFFECTIVE DATE: March 26, 2009.

FOR FURTHER INFORMATION: Yang Jin Chun or Richard Rimlinger, AD/CVD Operations, Office 5, Import Administration, International Trade Administration, U.S. Department of Commerce, 14th Street and Constitution Avenue, NW, Washington, DC 20230; telephone: (202) 482-5760 and (202) 482-4477, respectively.

SUPPLEMENTARY INFORMATION:

Background

On July 1, 2008, in response to requests from interested parties, the Department of Commerce (the Department) published a notice of initiation of the administrative reviews of the antidumping duty orders on ball bearings and parts thereof from France, Germany, Italy, Japan, and the United Kingdom. See Initiation of Antidumping and Countervailing Duty Administrative Reviews and Requests for Revocation in Part, 73 FR 37409 (July 1, 2008).

In accordance with 19 CFR 351.213(d), the Department will rescind an administrative review in part “if a party that requested a review withdraws the request within 90 days of the date of the publication of notice of initiation of the requested review.” In accordance with 19 CFR 351.213(d)(1), the Department may extend the 90-day time limit if the Department “decides that it is reasonable to do so.” On October 3, 2008, for all interested parties which requested the administrative reviews of the antidumping duty orders on ball bearings and parts thereof from Japan and the United Kingdom, we extended the due date for withdrawing the requests for reviews to October 10, 2008, because all respondents that we selected for individual examination in these two reviews had withdrawn their requests for reviews in a timely manner and because we had to identify additional respondents for individual examination. On October 14, 2008, for Canon, Inc., we extended the due date for withdrawing the request for review to October 15, 2008, based on the circumstances stated in Canon, Inc.'s October 14, 2008, letter requesting an extension of the due date.

Subsequent to the initiation of these reviews, we received timely withdrawals of the requests we had received for the reviews as follows:

Country | Company
France | ADR S.A.¹
Germany | Dolmar GmbH¹
| SNR Walzlager GmbH¹
Italy | Edwards, Ltd., and Edwards High Vacuum Int'l Ltd.¹
Japan | Aisin Seiki Company Ltd.¹
| Asahi Seiko Co., Ltd.¹
| Canon, Inc.²
| JTEKT Corporation¹
| Keihin Corporation³
| Makino Milling Machine Company Ltd.³
| Makita Corporation³
| Mazda Motor Corporation³
| Mitsubishi Heavy Industries, Ltd.¹
| Nachi-Fujikoshi Corporation¹
| Nippon Pillow Block Company Limited¹
| Nissan Motor Company, Ltd.³
| NSK, Ltd.¹
| NTN Corporation¹
| Univance Inc.³
| Yamazaki Mazak Trading Corporation¹
United Kingdom | Edwards, Ltd., and Edwards High Vacuum Int'l Ltd.¹
| NSK Bearings Europe Ltd.¹
| Rolls-Royce PLC¹
¹ We received timely withdrawals of the requests for reviews of these companies on or before September 29, 2008, which was the last day of the regulatory 90-day period in which interested parties could withdraw a request for review.
² We received a timely withdrawal of the request for review of Canon, Inc., on October 15, 2008.
³ We received timely withdrawals of the requests for reviews of these companies between October 8, 2008, and October 10, 2008.

Because there are no other requests for review of the above-named firms, we are rescinding the reviews with respect to these companies in accordance with 19 CFR 351.213(d). We also received a timely withdrawal of the request we received for Sapporo Precision, Inc. (Sapporo), with respect to the administrative review of the antidumping duty order on ball bearings and parts thereof from Japan. A review of Sapporo was also requested by another interested party which has not withdrawn its request. Consequently, we continue to conduct the administrative review of Sapporo.

Rescission of Reviews

The Department received the timely submitted letters withdrawing the requests for the reviews of the companies listed above within the 90-day period or within the specific extended due dates. The Department received no other requests for the reviews of these companies. Pursuant to 19 CFR 351.213(d)(1), the Department is rescinding the reviews in part with respect to ball bearings and parts thereof produced and/or exported by the companies as stated above. The Department intends to issue appropriate assessment instructions to U.S. Customs and Border Protection 15 days after publication of this notice.

Notification to Importers

This notice serves as a reminder to importers of their responsibility under 19 CFR 351.402(f) to file a certificate regarding the reimbursement of antidumping duties prior to liquidation of the relevant entries during this review period. Failure to comply with this requirement could result in the Department's assumption that reimbursement of antidumping duties occurred and subsequent assessment of double antidumping duties.

Notification Regarding APO

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing these rescissions in part in accordance with section 777(i)(1) of the Tariff Act of 1930, as amended, and 19 CFR 351.213(d)(4).

Dated: March 19, 2009.
John M. Andersen,
Acting Deputy Assistant Secretary for Antidumping and Countervailing Duty Operations.

[FR Doc. E9-6800 Filed 3-25-09; 8:45 am]

BILLING CODE 3510-DS-S